FEDERAL COMMUNICATIONS COMMISSION

47 CFR Part 64

[CG Docket No. 17-59; FCC 20-187; FCC 21-126; FR ID 70178]

Advanced Methods To Target and Eliminate Unlawful Robocalls, Fourth Report and Order and Order on Reconsideration

AGENCY: Federal Communications Commission.

ACTION: Final rule; announcement of effective date.

SUMMARY: In this document, the Federal Communications Commission (Commission or FCC) announces that the Office of Management and Budget (OMB) has approved the public information collections associated with the Advanced Methods to Target and Eliminate Unlawful Robocalls, Fourth Report and Order and Order on Reconsideration. This document is consistent with the Fourth Report and Order and Order on Reconsideration which stated that the Commission would publish a document in the Federal Register announcing OMB approval and the effective date of the information collection requirements.

DATES: The additions of § 64.1200(k)(10) and (n)(2), published at 86 FR 17726, April 6, 2021, and revision of § 64.1200(k)(10), published at 86 FR 74373, December 30, 2021, are effective March 10, 2022.

FOR FURTHER INFORMATION CONTACT: Jerusha Burnett, Jerusha.Burnett@fcc.gov or (202) 418-0526, of the Consumer and Governmental Affairs Bureau, Consumer Policy Division.

SUPPLEMENTARY INFORMATION: This document announces that, on October 4, 2021, OMB approved the information collection requirements contained in the Commission's Advanced Methods to Target and Eliminate Unlawful Robocalls Fourth Report and Order, FCC 20-187, published at 86 FR 17726, April 6, 2021, and Order on Reconsideration, FCC 21-126, published at 86 FR 74373, December 30, 2021. The OMB Control Numbers are 3060-1292. The Commission publishes this document as an announcement of the effective date of the information collection requirements.

Synopsis

As required by the Paperwork Reduction Act of 1995 (44 U.S.C. 3507), the FCC is notifying the public that it received OMB approval for the information collection requirements contained in the Commission's rules on October 4, 2021 and the non-substantive changes in the Order on Reconsideration were approved by OMB on January 20, 2022.

No person shall be subject to any penalty for failing to comply with a collection of information subject to the Paperwork Reduction Act that does not display a current, valid OMB control number which is 3060-1292.

The foregoing notification is required by the Paperwork Reduction Act of 1995, Public Law 104-13, October 1, 1995, and 44 U.S.C. 3507.

The total annual reporting burdens and costs for the respondents are as follows:

OMB Control No.: 3060-1292.

OMB Approval Date: October 4, 2021.

OMB Expiration Date: October 31, 2024.

Title: Advanced Methods to Target and Eliminate Unlawful Robocalls, Fourth Report and Order, CG Docket No. 17-59, FCC 20-187.

Form Number: N/A.

Respondents: Business or other for-profit entities.

Number of Respondents: 6,493 respondents and 582,434 annual responses.

Estimated Time per Response: .25 to 40 hours.

Frequency of Response: On occasion reporting requirement, On-going reporting requirement and Third-party Disclosure requirement.

Obligation to Respond: Required to obtain or retain benefits. Statutory authority for these collections are contained in 47 U.S.C. 154(i), 201, 202, 217, 227, 251(e), 303(r) and 403.

Total Annual Burden: 199,412 hours.

Total Annual Cost: No cost.

Needs and Uses: The Commission adopted a new information collection associated with the Advanced Methods to Target and Eliminate Unlawful Robocalls Fourth Report and Order (“Call Blocking Fourth Report and Order”), FCC 20-187. In 2019, Congress passed the Pallone-Thune Telephone Robocall Abuse Criminal Enforcement and Deterrence (TRACED) Act. In addition to directing the Commission to mandate adoption of caller ID authentication technology and encourage voice service providers to block calls by establishing safe harbors, the TRACED Act directs the Commission to ensure that both consumers and callers are provided with transparency and effective redress when calls are blocked in error. In the Call Blocking Fourth Report and Order, the Commission adopted a notification requirement and a blocked calls list requirement to better protect consumers from unwanted and illegal robocalls and implement the TRACED Act. While most of the requirements the Commission adopted in the Call Blocking Fourth Report and Order did not include an information collection, two of the requirements required approval prior to implementation.

First, 47 CFR 64.1200(n)(2) establishes an affirmative obligation that voice service providers effectively mitigate illegal traffic when notified of such traffic by the Commission's Enforcement Bureau. The rule requires that voice service providers receiving notice from the Commission report back with specific information about their investigation and response to such investigation. This requirement gives the Commission an important tool in the fight to stop illegal calls.

Second, 47 CFR 64.1200(k)(10), in order to enhance transparency for consumers, requires that any terminating voice service provider that blocks calls on an opt-in or opt-out basis must provide, on the request of the subscriber to a particular number, a list of all calls intended for that number that the voice service provider or its designee has blocked.

Subsequent to OMB approval of this information collection, the Commission released an Order on Reconsideration, “Advanced Methods to Target and Eliminate Unlawful Robocalls—Petition for Reconsideration and Request for Clarification of USTelecom—The Broadband Association,” CG Docket No. 17-59, FCC 21-126, 86 FR 74373, December 30, 2021. Among other things, this Order on Reconsideration clarified aspects of 47 CFR 64.1200(k)(10). In doing so, the Commission added clarifying language to the existing rule. OMB approved the Commission's non-substantive change request for this change on January 20, 2022.

Federal Communications Commission.
Katura Jackson,
Federal Register Liaison Officer.

[FR Doc. 2022-02485 Filed 2-7-22; 8:45 am]

BILLING CODE 6712-01-P